DEPARTMENT OF ENERGY

Federal Energy Regulatory Commission

[Docket Nos. RM01-12-000 EX01-3-000]

Electricity Market Design & Structure; Notice of Meetings and Conferences on Electric Market Matters

January 11, 2002.

As announced in a recent Commission Meeting, the Federal Energy Regulatory Commission (FERC) is planning a series of discussions on various electric market design issues.

Our Commissioners are especially interested in the views of state Commissioners and in discussing some of these issues with them. The National Association of Regulatory Utility Commissioners (NARUC) has scheduled its winter meetings for February 10th—13th, 2002. NARUC is allowing FERC to have time during its winter meetings to hold two sessions on issues of mutual concern. NARUC is holding its meetings at the Hyatt Regency Washington Hotel, 400 New Jersey Avenue, NW., Washington DC 20001.

The following two sessions on FERC-related issues are in the Hyatt's Regency A Room:

Date: Sunday, February 10, 2002.

Time: 10 a.m.—12 p.m.

Topic: Whether all wholesale and retail transmission services should be under the same rates, terms and conditions.

Date: Monday, February 11, 2002.

Time: 4 p.m.—5:45 p.m.

Topic: Whether the Federal Energy Regulatory Commission should require RTOs to administer a regional, long-term generation capacity obligation, and if so, the form and mechanism for that obligation.

These two sessions are open to everyone. There will be no charge for those attending these two sessions only.

The Commission is also co-sponsoring a conference with the U.S. Department of Energy (DOE) to raise awareness about the potential role of demand response programs in the evolution of efficient electric market operations. A series of panel discussions will address related topics. Some conference details are as follows:

Date: Thursday, February 14, 2002.

Time: 7:30 a.m. to 8:30 a.m.—Registration; Adjournment at 5:00 p.m.

Location: Washington DC Convention Center, 900 Ninth Street NW., Washington, DC 20001.

This conference is open to everyone, but registration and a fee ($75 until January 31st, and $125 thereafter) are required.

More information on the topics and presenters may be issued in a later notice.

The three sessions will be transcribed. The transcripts will be included as part of the record for the referenced proceedings and will be posted in the Commission's Records and Information Management System (RIMS) within 10 days of the events. More prompt copies of transcripts can be obtained sooner for a fee from the court reporter designated to handle the three sessions.

More information on the first two events, and procedures to register for the entire NARUC winter meetings (including information on registration, fees, and lodging) is at the following Web site: www.naruc.org/Meetings/winter/2002/naruc_winter.pdf.

Registration and lodging information on the Demand Response Conference is at the following Web site: www.ferc.gov/Electric/RTO/Mrkt-Strct-comments/rm01-12-comments.htm.

Additional questions about the program, not answered by information at these Web sites, should be directed to: Norma McOmber, Federal Energy Regulatory Commission, 888 First Street, NE., Washington, DC 20426, 202-208-1015, norma.mcomber@ferc.fed.us.

C.B. Spencer,
Acting Secretary.

[FR Doc. 02-1234 Filed 1-16-02; 8:45 am]

BILLING CODE 6717-01-P